DEPARTMENT OF AGRICULTURE

Farm Service Agency

Rural Housing Service

Rural Business-Cooperative Service

Rural Utilities Service

7 CFR Part 1910

Implementation of Low-Documentation Direct Operating Loan (Lo-Doc) Regulations

CFR Correction

In Title 7 of the Code of Federal Regulations, Parts 1900 to 1939, revised as of January 1, 2003, in § 1910.4, redesignate the second paragraph (i) as paragraph (j).

[FR Doc. 03-55528 Filed 10-29-03; 8:45 am]

BILLING CODE 1505-01-D